DEPARTMENT OF COMMERCE

International Trade Administration Washington University School of Medicine; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 A.M. and 5:00 P.M. in Room 4211, U.S. Department of Commerce, 14th and Constitution Avenue, NW., Washington, DC.

Docket Number: 00-035. Applicant: Washington University School of Medicine, St. Louis, MO 63110. Instrument: Motorized Manipulator. Manufacturer: Luigs and Neumann, Germany. Intended Use: See notice at 65 FR 68981, November 15, 2000.

Comments: None received. Decision: Approved. No instrument of equivalent scientific value to the foreign instrument, for such purposes as it is intended to be used, is being manufactured in the United States. Reasons: The foreign instrument provides a positional accuracy of 0.1 microns to place microelectrodes for patch clamp studies of synaptic transmission in neurons. The National Institutes of Health advises in its memorandum of October 30, 2000 that (1) this capability is pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 00-32985 Filed 12-26-00; 8:45 am]

BILLING CODE 3510-DS-P